DEPARTMENT OF TRANSPORTATION

Federal Aviation Administration

14 CFR Part 39

[Docket No. FAA-2011-1092; Directorate Identifier 2011-NM-111-AD; Amendment 39-16946; AD 2012-03-05]

RIN 2120-AA64

Airworthiness Directives; Bombardier Inc., Airplanes

AGENCY: Federal Aviation Administration (FAA), Department of Transportation (DOT).

ACTION: Final rule.

SUMMARY: We are adopting a new airworthiness directive (AD) for certain Bombardier, Inc. Model BD-700-1A10 and BD-700-1A11 airplanes. This AD was prompted by a report of deformation at the neck of the pressure regulator body on certain oxygen cylinder and regulator assemblies (CRA). This AD requires an inspection to determine if a certain oxygen CRA is installed and the replacement of oxygen CRAs containing pressure regulators having a certain part number. We are issuing this AD to prevent elongation of the pressure regulator neck, which could result in rupture of the oxygen cylinder, and in the case of cabin depressurization, oxygen not being available when required.

DATES: This AD becomes effective March 23, 2012.

The Director of the Federal Register approved the incorporation by reference of certain publications listed in this AD as of March 23, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Cesar Gomez, Aerospace Engineer, Airframe and Mechanical Systems Branch, ANE-171, FAA, New York Aircraft Certification Office, 1600 Stewart Avenue, Suite 410, Westbury, New York 11590; telephone (516) 228-7318; fax (516) 794-5531.

SUPPLEMENTARY INFORMATION:

Discussion

We issued a notice of proposed rulemaking (NPRM) to amend 14 CFR part 39 to include an AD that would apply to the specified products. That NPRM was published in the Federal Register on October 26, 2011 (76 FR 66198). The MCAI states:

During a routine inspection, deformation was found at the neck of the pressure regulator body on the oxygen Cylinder and Regulator Assemblies (CRA).

An investigation by the vendor, Avox Systems Inc., revealed that the deformation was attributed to two (2) batches of raw material that did not meet the required tensile strength. This may cause elongation of the pressure regulator neck, which could result in rupture of the oxygen cylinder, and in the case of cabin depressurization, oxygen not being available when required.

This [Canadian] directive mandates [an inspection to determine if a certain oxygen CRA is installed and] the replacement of oxygen CRAs containing pressure regulators, part number (P/N) 806370-06, that do not meet the required material properties.

You may obtain further information by examining the MCAI in the AD docket.

Comments

We gave the public the opportunity to participate in developing this AD. We received no comments on the NPRM (76 FR 66198, October 26, 2011), or on the determination of the cost to the public.

Conclusion

We reviewed the available data and determined that air safety and the public interest require adopting the AD as proposed except for minor editorial changes. We have determined that these minor changes:

• Are consistent with the intent that was proposed in the NPRM (76 FR 66198, October 26, 2011), for correcting the unsafe condition; and

• Do not add any additional burden upon the public than was already proposed in the NPRM (76 FR 66198, October 26, 2011).

Costs of Compliance

We estimate that this AD will affect 39 products of U.S. registry. We also estimate that it will take about 10 work-hours per product to comply with the basic requirements of this AD. The average labor rate is $85 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $33,150, or $850 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 66198, October 26, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-03-05 Bombardier, Inc.: Amendment 39-16946. Docket No. FAA-2011-1092; Directorate Identifier 2011-NM-111-AD.

(a) Effective Date

This airworthiness directive (AD) becomes effective March 23, 2012.

(b) Affected ADs

None.

(c) Applicability

This AD applies to Bombardier, Inc. Model BD-700-1A10 and BD-700-1A11 airplanes, certificated in any category, serial numbers (S/N) 9002 through 9126 inclusive, 9128 through 9312 inclusive, 9314 through 9322 inclusive, 9324 through 9335 inclusive, 9337, 9338, 9340, 9341, 9343, 9344, 9346, 9347, 9350, 9353, 9355, 9356, 9358, 9361, 9365, 9372, 9374, 9384, 9402, 9403, and subsequent.

(d) Subject

Air Transport Association (ATA) of America Code 35: Oxygen.

(e) Reason

This AD was prompted by a report of deformation at the neck of the pressure regulator body on certain oxygen cylinder and regulator assemblies (CRA). We are issuing this AD to prevent elongation of the pressure regulator neck, which could result in rupture of the oxygen cylinder, and in the case of cabin depressurization, oxygen not being available when required.

(f) Compliance

You are responsible for having the actions required by this AD performed within the compliance times specified, unless the actions have already been done.

(g) Actions

For airplanes having S/N 9002 through 9126 inclusive, 9128 through 9312 inclusive, 9314 through 9322 inclusive, 9324 through 9335 inclusive, 9337, 9338, 9340, 9341, 9343, 9344, 9346, 9347, 9350, 9353, 9355, 9356, 9358, 9361, 9365, 9372, 9374, 9384, 9402, and 9403: Within 7 months after the effective date of this AD, do an inspection of oxygen pressure regulators having P/N 806370-06 to determine if the serial number is listed in Table 2 of the Accomplishment Instructions of Bombardier Service Bulletin 700-35-011 (for Model BD-700-1A10 airplanes) or 700-1A11-35-010 (for Model BD-700-1A11 airplanes), both Revision 01, both dated February 1, 2011.

(1) If the serial number of the pressure regulator having P/N 806370-06 is listed in Table 2 of the Accomplishment Instructions of Bombardier Service Bulletin 700-35-011 (for Model BD-700-1A10 airplanes) or 700-1A11-35-010 (for Model BD-700-1A11 airplanes), both Revision 01, both dated February 1, 2011: Within 7 months after the effective date of this AD, replace the affected oxygen CRA, in accordance with paragraph 2.C. of the Accomplishment Instructions of Bombardier Service Bulletin 700-35-011 (for Model BD-700-1A10 airplanes) or 700-1A11-35-010 (for Model BD-700-1A11 airplanes), both Revision 01, both dated February 1, 2011.

(2) If the serial number of the oxygen pressure regulator having P/N 806370-06 is not listed in Table 2 of the Accomplishment Instructions of Bombardier Service Bulletin 700-35-011 (for Model BD-700-1A10 airplanes) or 700-1A11-35-010 (for Model BD-700-1A11 airplanes), both Revision 01, both dated February 1, 2011: No further action is required by this paragraph.

(h) Parts Installation

For all airplanes: As of the effective date of this AD, no person may install an oxygen pressure regulator (P/N 806370-06) having any serial number listed in Table 2 of the Accomplishment Instructions of Bombardier Service Bulletin 700-35-011 (for Model BD-700-1A10 airplanes) or 700-1A11-35-010 (for Model BD-700-1A11 airplanes), both Revision 01, both dated February 1, 2011, on any airplane, unless a suffix “-A” is beside the serial number.

(i) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to MCAI Canadian Airworthiness Directive CF-2011-10, dated May 13, 2011, and the service bulletins specified in paragraphs (j)(1) and (j)(2) of this AD, for related information.

(1) Bombardier Service Bulletin 700-35-011, Revision 01, dated February 1, 2011.

(2) Bombardier Service Bulletin 700-1A11-35-010, Revision 01, dated February 1, 2011.

(k) Material Incorporated by Reference

(1) You must use the following service information to do the actions required by this AD, unless the AD specifies otherwise. The Director of the Federal Register approved the incorporation by reference (IBR) of the following service information under 5 U.S.C. 552(a) and 1 CFR part 51:

(i) Bombardier Service Bulletin 700-35-011, Revision 01, dated February 1, 2011.

(ii) Bombardier Service Bulletin 700-1A11-35-010, Revision 01, dated February 1, 2011.

(2) For service information identified in this AD, contact Bombardier, Inc., 400 Côte-Vertu Road West, Dorval, Québec H4S 1Y9, Canada; telephone 514-855-5000; fax 514-855-7401; email: thd.crj@aero.bombardier.com; Internet http://www.bombardier.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on January 26, 2012.
Kalene C. Yanamura,
Acting Manager, Transport Airplane Directorate, Aircraft Certification Service.

[FR Doc. 2012-2974 Filed 2-16-12; 8:45 am]

BILLING CODE 4910-13-P